DEPARTMENT OF COMMERCE

National Oceanic and Atmospheric Administration

RIN 0648-XI66

Marine Mammals; File No. 545-1761

AGENCY: National Marine Fisheries Service (NMFS), National Oceanic and Atmospheric Administration (NOAA), Commerce.

ACTION: Notice; withdrawal of amendment request.

SUMMARY: Notice is hereby given that the North Gulf Oceanic Society (Craig O. Matkin, Principal Investigator), 2030 Mary Allen Avenue, Homer, AK 99603 has withdrawn its application for an amendment to Permit No. 545-1761-00 for use of a mini-helicopter during killer whale (Orcinus orca) research.

ADDRESSES: The documents related to this action are available for review upon written request or by appointment in the following offices:

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Carrie Hubard or Amy Sloan, (301)713-2289.

SUPPLEMENTARY INFORMATION: On June 6, 2008 a notice was published in the Federal Register (73 FR 32307) that an application for an amendment had been filed by North Gulf Oceanic Society. The permit holder requested authorization to use a mini-helicopter, during an opportunistic, limited time period in Alaska during August/September 2008. The applicant has withdrawn the amendment request from further consideration.

Dated: June 27, 2008.
P. Michael Payne,
Chief, Permits, Conservation and Education Division, Office of Protected Resources, National Marine Fisheries Service.

[FR Doc. E8-15050 Filed 7-1-08; 8:45 am]

BILLING CODE 3510-22-S